ENVIRONMENTAL PROTECTION AGENCY

[OPP-2003-0280; FRL-7323-4]

Tribal Pesticide Programs Council; Notice of Public Meeting

AGENCY: Environmental Protection Agency (EPA).

ACTION: Notice.

SUMMARY: The Tribal Pesticide Program Council (TPPC) will hold a 3-day meeting, beginning on September 17 and ending on September 19, 2003. This notice announces the location and times for the meeting and sets forth the tentative agenda topics.

DATES: The meeting will be held on Wednesday, September 17, 2003, from 9 a.m. until 5 p.m., including a closed session from 4 p.m. until 5 p.m.; Thursday, September 18, 2003, from 9 a.m. until 5 p.m., including a closed session from 4 p.m. until 5 p.m.; and Friday, September 19, 2003, from 9 a.m. until noon.

ADDRESSES: The meeting will be held at Miccosukee Resort and Convention Center, 500 SW., 177th Ave., Miami, FL 33194.

FOR FURTHER INFORMATION CONTACT: Georgia McDuffie, Field and External Affairs Division (7506C), Office of Pesticide Programs, Environmental Protection Agency, 1200 Pennsylvania Ave., NW., Washington, DC 20460-0001; telephone number: (703) 605-0195; fax number: (703) 308-1850; e-mail address: Mcduffie.Georgia@epa.gov; or Lillian Wilmore, TPPC Facilitator, P.O. Box 470829, Brookline Village, MA 02447-0829; telephone number: (617) 232-5742; fax: (617) 277-1656; e-mail address: naecology@aol.com.

SUPPLEMENTARY INFORMATION:

I. General Information

A. Does this Action Apply to Me?

This action is directed to the public in general, and may be of particular interest to those persons interested in TPPC's information exchange relationship with EPA regarding important issues related to human health, environmental exposure to pesticides, and insight into EPA's decision-making process. Since other entities may also be interested, the Agency has not attempted to describe all the specific entities that may be affected by this action. If you have any questions regarding the applicability of this action to a particular entity, consult the person listed under FOR FURTHER INFORMATION CONTACT.

B. How Can I Get Copies of This Document and Other Related Information?

1. Docket. EPA has established an official public docket for this action under docket ID number OPP-2003-0280. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. Tentative Agenda

This unit provides tentative agenda topics for the 2-day meeting.

1. TPPC state of the Council Report.

2. Presentation and questions and answers by EPA's Office of Pesticide Programs and Field and External Affairs Division.

3. Reports from working groups and TPPC participation in other meetings: Tribal Strategy and FOSTTA, Pesticide Program Dialogue Committee, Western Region. Pesticide Meeting, Certification and Training Assessment Group, and Worker Protection.

4. Tribal caucus (2).

5. Reports from other organizations: State FIFRA Issues Research and Evaluation Group, American Indian Environmental Office, Tribal Operations Committee, Regional Tribal Operations Committee, Intertribal Agricultural Council, and National Tribal Environmental Council, Intertribal Agricultural Council, and Tribal Air Group.

6. Tribal west nile virus concerns.

7. The new interim guidance on pesticides applied to waterways.

8. Spray drift regulation labeling and minimization.

9. EPA's Office of Prevention, Pesticides and Toxic Substances (OPPTS) tribal strategy update.

10. OECA enforcement priorities.

11. Pesticide-related homeland security concerns.

12. Updates from the subregional lead officer.

13. Worker protection, e-commerce, and tribal enforcement issues.

14. Background checks on inspections.

List of Subject

Environmental protection.

Dated: August 12, 2003.
Kennan Garvey,
Acting Associate Director, Field and External Affairs Division, Office of Pesticide Programs.

[FR Doc. 03-21663 Filed 8-22-03; 8:45 a.m.]

BILLING CODE 6560-50-S